DEPARTMENT OF TRANSPORTATION

Federal Aviation Administration

14 CFR Part 39

[Docket No. FAA-2012-0002; Directorate Identifier 2011-NE-42-AD]

RIN 2120-AA64

Airworthiness Directives; Continental Motors, Inc. Reciprocating Engines

AGENCY: Federal Aviation Administration (FAA), DOT.

ACTION: Notice of proposed rulemaking (NPRM); extension of comment period.

SUMMARY: We are extending the comment period to our proposed airworthiness directive (AD) for certain Continental Motors, Inc., engines with Airmotive Engineering Corporation parts manufacturer approval replacement cylinder assemblies installed. The replacement cylinder assemblies are marketed by Engine Components International Division.

DATES: The comment period for the proposed rule published August 12, 2013 (78 FR 48828) is extended. We must receive comments on this proposed AD by December 11, 2013.

ADDRESSES: You may send your comments to our NPRM published in the Federal Register on August 12, 2013 (78 FR 48828), using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

FOR FURTHER INFORMATION CONTACT: Jurgen E. Priester, Aerospace Engineer, Special Certification Office, FAA, Rotorcraft Directorate, 2601 Meacham Blvd., Fort Worth, TX 76137; phone: 817-222-5159; fax: 817-222-5785; email: jurgen.e.priester@faa.gov.

SUPPLEMENTARY INFORMATION:

Comments Invited

We invite you to send any written relevant data, views, or arguments about this proposed AD. Send your comments to an address listed under the ADDRESSES section. Include “Docket No. FAA-2012-0002; Directorate Identifier 2011-NE-42-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

This extension adds an additional sixty (60) days to the comment period in the NPRM (Directorate Identifier 2011-NE-42-AD) published in the Federal Register on August 12, 2013 (78 FR 48828). This extension also provides time for review and comment of the information we are adding to the docket. All other aspects of our proposed AD, as published in the in the Federal Register on August 12, 2013 (78 FR 48828), remain unchanged.

Issued in Burlington, Massachusetts, on September 23, 2013.
Colleen M. D'Alessandro,
Assistant Manager, Engine & Propeller Directorate, Aircraft Certification Service.

[FR Doc. 2013-23431 Filed 9-25-13; 8:45 am]

BILLING CODE 4910-13-P